DEPARTMENT OF EDUCATION

President's Advisory Commission on Educational Excellence for African Americans

AGENCY: President's Advisory Commission on Educational Excellence for African Americans, U.S. Department of Education (PACEEAA).

ACTION: Notice of an open meeting.

SUMMARY: This notice sets forth the schedule and agenda of the meeting of the President's Advisory Commission on Educational Excellence for African Americans. The notice also describes the functions of the Commission. Notice of the meeting is required by section 10(a)(2) of the Federal Advisory Committee Act and intended to notify the public of its opportunity to attend.

Due to unexpected complications in delivering this notice to the Federal Register coupled with the requirement that the Commission hold two meetings per year and this is the only time a second meeting could be scheduled, this notice is being published late.

DATES: The PACEAA will be held on Monday, September 22, 2014 at 9:00 a.m.-4:00 p.m. (EDT).

ADDRESSES: Wardman Park Marriott Hotel, Wilson Room, 2660 Woodley Rd. NW., Washington, DC 20008, (202) 328-2000.

FOR FURTHER INFORMATION CONTACT: Kimberly Watkins-Foote, Acting Deputy Director, White House Initiative on Educational Excellence for African Americans, 400 Maryland Avenue SW., Washington, DC 20202; email: Kimberly.Watkins-Foote@ed.gov; telephone: (202) 260-8197, fax: (202) 401-1971.

SUPPLEMENTARY INFORMATION: The President's Advisory Commission on Educational Excellence for African Americans is established by Executive Order 13621 (July 26, 2012). The Commission is governed by the provisions of the Federal Advisory Committee Act (FACA), (Pub. L. 92-463; as amended, 5 U.S.C.A., Appendix 2) which sets forth standards for the formation and use of advisory committees. The purpose of the Commission is to advise the President and the Secretary of Education on matters pertaining to the educational attainment of the African American community, including: (1) The development, implementation, and coordination of educational programs and initiatives at the Department and other agencies to improve educational opportunities and outcomes for African Americans of all ages; (2) efforts to increase the participation of the African American community and institutions that serve the African American community in the Department's programs and in education programs at other agencies; (3) efforts to engage the philanthropic, business, nonprofit, and education communities in a national dialogue on the mission and objectives of this order; and (4) the establishment of partnerships with public, private, philanthropic, and nonprofit stakeholders to meet the mission and policy objectives of its Executive Order.

Meeting Agenda

The purpose of this meeting is to discuss current and future endeavors of the White House Initiative on Educational Excellence for African Americans through strategic planning to help facilitate and focus its work; review the work of the White House Initiative on Educational Excellence for African Americans; and determine key strategies to help meet the Commission's charge as outlined in Executive Order 13621.

Individuals interested in attending the meeting must register by Tuesday, September 16, 2014 because seating is limited. Please contact Kimberly Watkins-Foote at (202) 260-8197 or by email at Kimberly.Watkins-Foote@ed.gov.

An opportunity for public comment is available on Monday, September, 22, 2014, from 3:30 p.m.-4:00 p.m. Individuals who wish to provide comments will be allowed three to five minutes to speak. Those members of the public interested in submitting written comments may do so by submitting them to the attention of Kimberly Watkins-Foote, White House Initiative on Educational Excellence for African Americans, U.S. Department of Education, 400 Maryland Avenue SW., Washington, DC 20202, by Tuesday, September 16, 2014.

Access to Records of the Meeting: Records are kept of all Commission proceedings and are available for public inspection at the office of the White House Initiative on Educational Excellence for African Americans, U.S. Department of Education, 400 Maryland Avenue SW., Washington, DC 20202, Monday through Friday (excluding federal holidays) during the hours of 9:00 a.m. to 5:00 p.m.

Reasonable Accommodations

Individuals needing accommodations for a disability in order to attend the meeting (e.g., interpreting services, assistive listening devices, or material in alternative format) should notify Kimberly Watkins-Foote, White House Initiative on Educational Excellence on African Americans, at (202) 260-8197, no later than Tuesday, September 16, 2014. We will attempt to meet requests for such accommodations after this date, but cannot guarantee their availability. The meeting site is accessible to individuals with disabilities.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: 20 U.S.C. 1011c.

Ted Mitchell,
Under Secretary, U.S. Department of Education.

[FR Doc. 2014-22072 Filed 9-15-14; 8:45 am]

BILLING CODE 4000-01-P